DEPARTMENT OF THE INTERIOR

Fish and Wildlife Service

[FWS-R3-ES-2013-N0008; FXES11130300000F3-145-FF03E00000]

Endangered and Threatened Species; Permits

AGENCY: Fish and Wildlife Service, Interior.

ACTION: Notice of issuance of permits.

SUMMARY: We, the U.S. Fish and Wildlife Service, have issued the following permits to conduct certain activities with endangered species under the authority of the Endangered Species Act, as amended (Act).

FOR FURTHER INFORMATION CONTACT: Mr. Karl Tinsley, U.S. Fish and Wildlife Service, Ecological Services-Endangered Species, 5600 American Blvd. West, Suite 990, Bloomington, MN 55437-1458; (612) 713-5343 (phone) or karl_tinsley@fws.gov (email).

SUPPLEMENTARY INFORMATION: We have issued the following permits in response to recovery permit applications we received under the authority of section 10 of the Act (16 U.S.C. 1531 et seq.). Each permit listed below was issued only after we determined that it was applied for in good faith, that granting the permit would not be to the disadvantage of the listed species, and that the terms and conditions of the permit were consistent with purposes and policy set forth in the Act.

Applicant name | Permit No. | Date issued | Date expired
ENBRIDGE PIPELINES (LAKEHEAD), L.L.C | 03689B | 12/12/13 | 12/31/15
BUCKEYE WIND LLC | 66315A | 07/18/13 | 07/17/43
CUTHBERT, FRANCESCA J | 43541A | 05/02/13 | 12/31/15
REDWING ECOLOGICAL SERVICES, INC | 07730A | 02/07/13 | 02/07/15
U.S. GEOLOGICAL SURVEY | 207526 | 06/25/13 | 03/31/14
MYERS-KINZIE, MELODY LYNN | 82665A | 06/14/13 | 12/31/14
HELMS, DON R | 839777 | 05/09/13 | 12/31/15
O'NEILL, BRIAN J | 94321A | 06/12/13 | 12/31/15
BHE ENVIRONMENTAL, INC | 38789A | 08/01/13 | 12/31/15
OHIO DEPARTMENT OF TRANSPORTATION | 98111A | 06/27/13 | 12/31/18
OHIO ENVIRONMENTAL PROTECTION AGENCY | 98298A | 09/20/13 | 12/31/18
ENVIRONMENTAL SOLUTIONS AND INNOVATIONS, INC | 02373A | 07/01/13 | 12/31/14
CALL, DANIEL J | 07293B | 08/07/13 | 12/31/13
CIVIL AND ENVIRONMENTAL CONSULTANTS, INC | 07358A | 06/27/13 | 12/31/13
U.S. GEOLOGICAL SURVEY | 10887A | 05/23/13 | 12/31/13
LEWIS ENVIRONMENTAL CONSULTING, LLC | 181256 | 06/20/13 | 12/31/13
ENVIROSCIENCE, INC | 130900 | 04/22/13 | 12/31/13
MILLER, LEVI D | 60999A | 03/29/13 | 12/31/13
WESTERN ECOSYSTEMS TECHNOLOGY, INC | 234121 | 06/20/13 | 12/31/13
BISHOP HILL ENERGY LLC | 71464A | 08/01/13 | 03/01/14
BLUE CREEK WIND FARM, LLC | 07295B | 09/30/13 | 12/01/14
ILLINOIS STATE MUSEUM | 10891A | 06/25/13 | 12/31/14
BERNARDIN—LOCHMUELLER & ASSOCIATES | 06845A | 08/08/13 | 12/31/14
GARVON, JASON MICHAEL | 38860A | 05/24/13 | 12/31/14
UPPER PENINSULA LAND CONSERVANCY | 06822A | 05/17/13 | 12/31/14
VANDE KOPPLE, ROBERT J | 11035A | 07/03/13 | 12/31/14
TOMASI, THOMAS E | 195082 | 02/27/13 | 12/31/14
USDA FOREST SERVICE | 06809A | 03/11/13 | 12/31/14
MISSISSIPPI ENTOMOLOGICAL MUSEUM | 03501B | 07/03/13 | 12/31/14
KAPUSINSKI, DOUGLAS J | 77530A | 09/30/13 | 12/31/14
URS CORPORATION | 89559A | 05/07/13 | 12/31/14
SANDERS ENVIRONMENTAL INC | 38842A | 05/22/13 | 12/31/14
ROE, KEVIN J | 98039A | 06/20/13 | 08/31/15
CALIFORNIA RIDGE WIND ENERGY LLC | 03502B | 07/18/13 | 12/31/15
HALSALL, AMY L | 207178 | 06/27/13 | 12/31/15
ILLINOIS NATURAL HISTORY SURVEY | 182436 | 04/24/13 | 12/31/15
SOUTHERN ILLINOIS UNIVERSITY | 042946 | 03/12/13 | 12/31/15
BASIGER, ERIN LYNN | 03450B | 07/19/13 | 12/31/15
CARDNO JFNEW | 38837A | 05/13/13 | 12/31/15
WALTERS, BRIANNE LORRAINE | 106220 | 03/11/13 | 12/31/15
WHITAKER, JOHN O | 839763 | 03/11/13 | 12/31/15
GAI CONSULTANTS, INC | 03494B | 06/11/13 | 12/31/15
STANTEC CONSULTING SERVICES | 38821A | 05/02/13 | 12/31/15
THIRD ROCK CONSULTANTS, LLC | 049738 | 03/11/13 | 12/31/15
APPLIED SCIENCE & TECHNOLOGY, INC | 48835A | 08/12/13 | 12/31/15
ECOLOGICAL SURVEY AND DESIGN, LLC | 03499B | 08/12/13 | 12/31/15
LAND CONSERVANCY OF WEST MICHIGAN | 38835A | 04/29/13 | 12/31/15
THE NATURE CONSERVANCY—MICHIGAN CHAPTER | 207523 | 05/08/13 | 12/31/15
MINNESOTA POLLUTION CONTROL AGENCY | 31310A | 02/06/13 | 12/31/15
BRADLEY, SARAH A | 38769A | 06/25/13 | 12/31/15
ECOLOGICAL SPECIALISTS, INC | 206781 | 02/06/13 | 12/31/15
GARDNER, JAMES E | 98032A | 06/17/13 | 12/31/15
MILLS, LYNDA M | 98057A | 07/08/13 | 12/31/15
ROBBINS, LYNN W | 02365A | 05/17/13 | 12/31/15
ST. LOUIS ZOO | 135297 | 05/29/13 | 12/31/15
WOMACK, KATHRYN M | 98063A | 07/02/13 | 12/31/15
CUNNINGHAM, GEORGE R | 38862A | 05/08/13 | 12/31/15
ROMELING, SHANNON ELIZABETH | 89558A | 02/14/13 | 12/31/15
ECOLOGY & ENVIRONMENT, INC | 212427 | 07/08/13 | 12/31/15
KREBS, ROBERT ANTHONY | 94330A | 06/13/13 | 12/31/15
PERDICAS, MARLO MARIE | 206783 | 02/14/13 | 12/31/15
STANTEC CONSULTING SERVICES, INC | 15027A | 06/17/13 | 12/31/15
TAWSE, MERRILL BERNARD | 38785A | 02/14/13 | 12/31/15
TRAGUS ENVIRONMENTAL CONSULTING, INC | 105320 | 02/06/13 | 12/31/15
URS CORPORATION | 89557A | 02/05/13 | 12/31/15
WATTERS, GEORGE THOMAS | 088720 | 05/07/13 | 12/31/15
BAT CONSERVATION AND MANAGEMENT, INC | 212440 | 06/27/13 | 12/31/15
NORMANDEAU ASSOCIATES | 98294A | 06/11/13 | 12/31/15
SKELLY AND LOY, INC | 38856A | 02/05/13 | 12/31/15
AHLSTEDT, STEVEN A | 113009 | 07/03/13 | 12/31/15
SETTLE, DALLAS SCOTT | 98295A | 07/09/13 | 12/31/15
MIERZWA, KENNETH S | 38793A | 05/20/13 | 12/31/16
CARSON, ANDREW | 06873B | 12/23/13 | 12/31/16
METROPOLITAN PARK DISTRICT OF THE TOLEDO AREA | 174388 | 04/29/13 | 12/31/16
TOLEDO ZOOLOGICAL SOCIETY | 106217 | 08/08/13 | 12/31/16
MISSOURI DEPARTMENT OF CONSERVATION | 73587A | 01/30/13 | 12/31/17
MISSOURI DEPARTMENT OF CONSERVATION | 96187A | 01/30/13 | 12/31/17
OHIO DIVISION OF WILDLIFE | 151109 | 05/29/13 | 12/31/17
GENOA NATIONAL FISH HATCHERY | 01720B | 04/24/13 | 12/31/18
TEXAS TECH UNIVERSITY | 93717A | 05/14/13 | 12/31/14

Availability of Documents

Documents and other information submitted with these applications are available for review, subject to the requirements of the Privacy Act and Freedom of Information Act, by any party who submits a written requires for a copy of such documents to Karl Tinsley (see FOR FURTHER INFORMATION CONTACT).

Authority

The authority for this notice is the Endangered Species Act of 1973, as amended (16 U.S.C. 1531 et seq.).

Dated: January 27, 2014.
Lynn Lewis,
Assistant Regional Director, Ecological Services, Midwest Region.

[FR Doc. 2014-03025 Filed 2-11-14; 8:45 am]

BILLING CODE 4310-55-P